DEPARTMENT OF LABOR

Employment and Training Administration

[NAFTA-005610]

General Electric Transportation Systems, Global Signaling, Grain Valley, MO; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on July 30, 1998, in response to a petition filed on behalf of workers at General Electric Transportation System (GETS) Global Signaling, Grain Valley, Missouri.

None of the three workers that filed the petition are employees of GETS, Global Signaling's Grain Valley facility. The petition is therefore deemed invalid. Consequently, further investigation in this case would serve no purpose, and the investigation has been terminated.

Signed in Washington, DC., this 30th day of April, 2002.
Linda G. Poole,
Certifying Officer, Division of Trade Adjustment Assistance.

[FR Doc. 02-12392 Filed 5-6-02; 8:45 am]

BILLING CODE 4510-30-M